DEFENSE BASE CLOSURE AND REALIGNMENT COMMISSION

Notice of the Defense Base Closure and Realignment Commission—Change in Location of a Previously Announced Open Meeting (Fairbanks, AK); Correction

AGENCY: Defense Base Closure and Realignment Commission.

ACTION: Notice; correction.

SUMMARY: The Defense Base Closure and Realignment Commission published a document in the Federal Register of June 7, 2005, concerning receiving comments from Federal, state and local government representatives and the general public on base realignment and closure actions in Alaska that have been recommended by the Department of Defense (DoD). The location for this meeting has changed. The delay of this notice of change resulted from recent requests by community representatives to move the regional hearing to a location commonly used for community public events and the short time-frame established by statute for the operations of the Defense Base Closure and Realignment Commission. The Commission requests that the public consult the Defense Base Closure and Realignment Commission Web site, http://www.brac.gov, for updates.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 7, 2005, in FR Doc 05-11236, on page 33128, in the first column, correct the Address caption to read:

ADDRESSES: Hering Auditorium, Lathrop High School, 901 Airport Way, Fairbanks, Alaska 99701

Dated: June 7, 2005.
Jeannette Owings-Ballard,
Administrative Support Officer.

[FR Doc. 05-11627 Filed 6-10-05; 8:45 am]

BILLING CODE 5001-06-P